DEPARTMENT OF HOMELAND SECURITY

[Docket No. DHS-2015-0001]

National Infrastructure Advisory Council

AGENCY: National Protection and Programs Directorate, DHS.

ACTION: Committee Management; Notice of an Open Federal Advisory Committee Meeting.

SUMMARY: The National Infrastructure Advisory Council will meet Friday, March 20, 2015, at the U.S. Access Board Building, 1331 F Street NW., Suite 1000, Washington, DC 20004. The meeting will be open to the public.

DATES: The National Infrastructure Advisory Council will meet on Friday, March 20, 2015, from 1:30 p.m. to 4:30 p.m. The meeting may close early if the committee has completed its business. For additional information, please consult the National Infrastructure Advisory Council Web site, www.dhs.gov/NIAC, or contact the National Infrastructure Advisory Council Secretariat by phone at (703) 235-2888 or by email at NIAC@hq.dhs.gov.

ADDRESSES: U.S. Access Board Building, 1331 F Street NW., Suite 1000, Washington, DC 20004. The meeting will be open to the public. Members of the public will register at the table at the door to the meeting room. For information on facilities or services for individuals with disabilities, or to request special assistance at the meeting, contact the person listed under FOR FURTHER INFORMATION, CONTACT: below as soon as possible.

To facilitate public participation, we are inviting public comment on the issues to be considered by the Council as listed in the SUMMARY section below. Comments must be submitted in writing no later than 12:00 p.m. on March 20, 2015, in order to be considered by the Council in its meeting. The comments must be identified by “DHS-,” and may be submitted by any one of the following methods:

• Federal eRulemaking Portal: www.regulations.gov. Follow the instructions for submitting written comments.

• Email: NIAC@hq.dhs.gov. Include the docket number in the subject line of the message.

• Fax: (703) 603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the National Infrastructure Advisory Council, go to www.regulations.gov. Enter “NIAC” in the search line and the Web site will list all relevant documents for your review.

Members of the public will have an opportunity to provide oral comments on the topics on the meeting agenda below, and on any previous studies issued by the National Infrastructure Advisory Council. We request that comments be limited to the issues and studies listed in the meeting agenda and previous National Infrastructure Advisory Council studies. All previous National Infrastructure Advisory Council studies can be located at www.dhs.gov/NIAC. Public comments may be submitted in writing or presented in person for the Council to consider. Comments received by Nancy Wong after 12:00 p.m. on March 20, 2015, will still be accepted and reviewed by the members, but not necessarily by the time of the meeting. In-person presentations will be limited to three minutes per speaker, with no more than 15 minutes for all speakers. Parties interested in making in-person comments should register on the Public Comment Registration list available at the meeting location no later than 15 minutes prior to the beginning of the meeting.

FOR FURTHER INFORMATION CONTACT: Nancy Wong, National Infrastructure Advisory Council Designated Federal Officer, Department of Homeland Security, (703) 235-2888.

SUPPLEMENTARY INFORMATION: Notice of this meeting is given under the Federal Advisory Committee Act, 5 U.S.C. Appendix. The National Infrastructure Advisory Council shall provide the President, through the Secretary of Homeland Security, with advice on the security and resilience of the Nation's critical infrastructure sectors. The Council will meet to discuss issues relevant to critical infrastructure security and resilience as directed by the President. At this meeting, the Council will receive a briefing by Administration officials on the implementation progress of recommendations in the Council's 2012 report on “Intelligence Information Sharing”, followed by an update presentation from the Transportation Resilience Working Group documenting their work to date on a study reviewing the Transportation Sector's resilience against potentially disruptive events. The Council will also receive and deliberate on a Chief Executive Officer (CEO) Engagement Working Group presentation of a draft report and recommendations on a framework for Chief Executive Officer/Senior Executive Engagement within the critical infrastructure community and a communication strategy with this target community. Finally, the Council will discuss and deliberate recommendations to the Administration on potential next topics for study. All presentations will be posted no later than one week prior to the meeting on the Council's public Web site— www.dhs.gov/NIAC.

Meeting Agenda:

I. Opening of Meeting

II. Roll Call of Members

III. Opening Remarks and Introductions

IV. Approval of Meeting Minutes

V. Administration Progress Report on 2012 Intelligence Information Sharing Recommendations

VI. Working Group Update on Transportation Resilience Study

VII. Working Group Presentation on CEO Engagement Study Report and Recommendations

VIII. Public Comment: Topics Limited to Agenda Topics and Previously Issued National Infrastructure Advisory Council Studies and Recommendations

IX. Discussion and Deliberation on Recommendations for the Chief Executive Officer Engagement Report

X. Discussion and Deliberation on Recommendations for Potential Next Topics for Study

XI. Closing Remarks

Nancy Wong,
Designated Federal Officer for the National Infrastructure Advisory Council.

[FR Doc. 2015-05094 Filed 3-4-15; 8:45 am]

BILLING CODE 9110-9P-P